DEPARTMENT OF COMMERCE

International Trade Administration

[A-583-841]

Polyvinyl Alcohol From Taiwan: Rescission of Antidumping Duty Administrative Review; 2012-2013

AGENCY: Import Administration, International Trade Administration, Department of Commerce.

SUMMARY: The Department of Commerce (the Department) is rescinding its administrative review of the antidumping duty order on polyvinyl alcohol (PVA) from Taiwan for the period March 1, 2012, through February 28, 2013.

DATES: Effective Date: July 1, 2013.

FOR FURTHER INFORMATION CONTACT: Bryan Hansen or Minoo Hatten, AD/CVD Operations Office 1, Import Administration, International Trade Administration, U.S. Department of Commerce, 14th Street and Constitution Avenue NW., Washington, DC 20230; telephone: (202) 482-3683 and (202) 482-1690 respectively.

SUPPLEMENTARY INFORMATION:

Background

On March 1, 2013, we published a notice of opportunity to request an administrative review of the antidumping duty order on PVA from Taiwan for the period of review March 1, 2012, through February 28, 2013.¹ On May 1, 2013, in response to a request from Chang Chun Petrochemical Co., Ltd. (CCPC), in accordance with section 751(a) of the Tariff Act of 1930, as amended (Act) and 19 CFR 351.221(c)(1)(i), we initiated an administrative review of the order on PVA from Taiwan with respect to CCPC.²

¹ See Antidumping or Countervailing Duty Order, Finding, or Suspended Investigation; Opportunity To Request Administrative Review, 78 FR 13858 (March 1, 2013).

² See Initiation of Antidumping and Countervailing Duty Administrative Reviews and Request for Revocation in Part, 78 FR 25418 (May 1, 2013).

On May 24, 2013, CCPC withdrew its request for an administrative review.³

³ See letter from CCPC to the Department, “Polyvinyl Alcohol from Taiwan: Withdrawal of Administrative Review Request” (May 24, 2013).

Rescission of Review

Pursuant to 19 CFR 351.213(d)(1), the Department will rescind an administrative review, “in whole or in part, if a party that requested a review withdraws the request within 90 days of the date of publication of notice of initiation of the requested review.” CCPC withdrew its request for review within the 90-day time limit. Because we received no other requests for review of CCPC and no other requests for the review of the order on PVA from Taiwan with respect to other companies subject to the order, we are rescinding the administrative review of the order in full. This rescission is in accordance with 19 CFR 351.213(d)(1).

Accordingly, the Department intends to issue appropriate assessment instructions to U.S. Customs and Border Protection 15 days after publication of this notice.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: June 25, 2013.
Christian Marsh,
Deputy Assistant Secretary for Antidumping and Countervailing Duty Operations.

[FR Doc. 2013-15720 Filed 6-28-13; 8:45 am]

BILLING CODE 3510-DS-P